DEPARTMENT OF HEALTH AND HUMAN SERVICES

Agency for Toxic Substances and Disease Registry

[Program Announcement 01124]

Assess Human Exposures to Contaminants Near Kelly Air Force Base, Texas; Notice of Availability of Funds

A. Purpose

The Agency for Toxic Substances and Disease Registry (ATSDR) announces the availability of fiscal year (FY) 2001 funds for a grant to address community health concerns through evaluating the health status, evaluating potential exposures, and providing health education to the community surrounding Kelly Air Force Base, Texas. This program address the “Health People 2010” focus area of Environmental Health.

The purpose of the program is to assist the San Antonio Metropolitan Health District (SAMHD) in addressing the health concerns of the community and providing health education to the residents. These site-specific health activities should target area residents and surrounding communities and address site-specific health concerns. Results of any clinical assessments will be provided to individual participants to address their own personal health concerns.

B. Eligible Applicants

Assistance will be provided only to the San Antonio Metropolitan Health District (SAMHD). No other applications are solicited. Eligibility is limited to the SAMHD because fiscal year 2001 Federal appropriation specifically directs CDC to award the district to address community concerns around Kelly Air Force Base, Texas.

Note: Title 2 of the United States Code, Chapter 26, section 1611 states that an organization described in section 501(c)(4) of the Internal Revenue Code of 1986 that engages in lobbying activities is not eligible to receive Federal funds constituting an award, grant, cooperative agreement, contract, loan, or any other form.

C. Availability of Funds

Approximately $177,729 is available in FY 2001 to fund this award. it is expected that the award will begin on or about September 30, 2001, and will be made for a 12-month budget period within a project period of up to one year. Funding estimates may change.

Use of Funds

Funds may be expended for reasonable program purposes, such as personnel, travel, supplies, and services. Funds for contractual services may be requested; however, the grantee, as the direct and primary recipient of grant funds, must perform a substantive role in carrying out project activities and not merely serve as a conduit for an award to another party or provide funds to an ineligible party. Requests for equipment purchases will be reviewed and approved only under the following conditions: (1) ATSDR retains the right to request return of all equipment purchased (in operable condition) with grant funds at the conclusion of the project period, and (2) equipment purchased must be compatible with ATSDR hardware. Computers purchased with ATSDR funds should be IMB compatible and adhere to the Centers for Disease Control and Prevention (CDC)/ATSDR hardware standards.

D. Program Requirements

In conducting activities to achieve the purpose of this program, the recipient will:

a. Develop a community-based mechanism for ongoing interaction with the affected residents and communities. This mechanism will include assembling a formal community-based assistance group to consist of representatives from the affected communities.

b. Interact with communities around the Kelly Air Force Base to assess their exposure.

c. Develop environmental health education materials that are appropriate for residents surrounding Kelly AFB considering literacy levels, cultural values, and languages spoken.

E. Application Content

Use the information in the Other Requirements and Evaluation Criteria sections to develop the application content. Your application will be evaluated on the criteria listed, so it is important to follow them in laying out your program plan. These criteria serve as the basis for evaluating the application; therefore, omissions or incomplete information may affect the rating of the application.

Narrative should be no more than 30 pages, double-spaced, printed on one-side, with 1″ margins, and unreduced fonts (font size 12 points) on 8½″ by 11″ paper. The pages must be clearly numbered, and a complete index to the application and its appendices must be included. The original and two copies of the application must be submitted unstapled and unbound.

F. Submission and Deadline

Application

Submit the original and two copies of PHS 5161-1 (OMB Number 0937-0189). Forms are available in the application kit and at the following Internet address: www.cdc.gov/ * * * Forms, in the application kit.

On or before July 31, 2001, submit the application to the Grants Management Specialist identified in the “Where to Obtain Additional Information” section of this announcement.

G. Evaluation Criteria

The application will be evaluated individually against the following criteria by an independent review group appointed by ATSDR.

1. Proposed Program (50 Percent)

Extent to which the applicant's application addresses: (a) The feasibility of the approach and the adequacy of the design of the proposed project; (b) the technical merit of the proposed project, including the degree to which the project can be expected to yield or demonstrate results that will be useful and desirable in furthering the program objectives; and (c) the proposed project schedule, including clearly established and obtainable project objectives for which progress toward attainment can and will be measured.

2. Capability and Coordination Efforts (15 Percent)

Extent to which the application has described: (a) The capability of the applicant's administrative structure to foster successful scientific and administrative management of a program; (b) the capability of the applicant to demonstrate an appropriate plan for interaction with the community and other partners participating in the program and (c) the suitability of facilities and equipment available or to be purchased for the project.

3. Program Personnel (35 Percent)

Extent to which the proposed program staff is qualified and appropriate, and the time allocated for them to accomplish program activities is adequate.

4. Budget (Not Scored)

Extent to which the budget is reasonable, clearly justified, and consistent with intended use of funds.

H. Other Requirements

Technical Reporting Requirements

Provide ATSDR with original plus two copies of

1. Annual progress report;

2. Financial status report, no more than 90 days after the end of the budget period; and

3. Final financial status and performance reports, no more than 90 days after the end of the project period.

Send all reports to the Grants Management Specialist identified in the “Where to Obtain Additional Information” section of this announcement.

The following additional requirements are applicable to this program. For a complete description of each, see Attachment I in the application kit.

AR-7 Executive Order 12372 Review

AR-9 Paperwork Reduction Act

AR-10 Smoke-Free Workplace Requirements

AR-11 Healthy People 2000

AR-12 Lobbying Restrictions

AR-18 Cost Recovery—ATSDR

AR-19 Third Party Agreements—ATSDR

I. Authority and Catalog of Federal Domestic Assistance Number

This program is authorized under section 104(i)(1)(E), (7), and (15) of the Comprehensive Environmental Response, Compensation, and Liability Act (CERCLA) as amended by the Superfund Amendments and Reauthorization Act (SARA) [42 U.S.C. 9604(i)(1)(E), (7), and (15)]. The Catalog of Federal Domestic Assistance number is 93.161.

J. Where to Obtain Additional Information

A complete copy of the announcement may be downloaded from CDC's home page on the Internet at: http://www.cdc.gov. Click on “Funding” the “Grants and Cooperative Agreements.” If you have questions after reviewing the contents of all the documents, business management technical assistance may be obtained from: Nelda Godfrey, Grants Management Specialist, Grants Management Branch, Procurement and Grants Office, Announcement 01124, Centers for Disease Control and Prevention, 2920 Brandywine Rd., Suite 3000, Atlanta, Georgia 30341-4146, Email address: nag9@cdc.gov, Telephone: (770) 488-2722.

For program technical assistance, contact: Maurice West, Environmental Engineer, Agency for Toxic Substances and Disease Registry, Division of Health Assessment and Consultation, 1600 Clifton Rd., NE., Mailstop E-32, Atlanta, Georgia 30333, Telephone: (404) 498-0497, Fax: (404) 498-0777, Email address: myw4@cdc.gov.

Dated: June 12, 2001.
Georgi Jones,
Director, Office of Policy and External Affairs, Agency for Toxic Substances and Disease Registry.

[FR Doc. 01-15355 Filed 6-18-01; 8:45 am]

BILLING CODE 4163-70-M